DEPARTMENT OF AGRICULTURE

Submission of OMB Review; Comment Request

February 22, 2006.

The Department of Agriculture has submitted the following information collection requirement(s) to OMB for review and clearance under the Paperwork Reduction Act of 1995, Public Law 104-14. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Rural Utilities Service

Title: RUS Specification for quality control and Inspection of Timber Products.

OMB Control Number: 0572-0076.

Summary of Collection: The Rural Utilities Service (RUS) is a credit agency of the U.S. Department of Agriculture (USDA). It makes mortgage loans and loan guarantees to finance electronic, telecommunications, and water and waste facilities in rural areas. Loan programs are managed in accordance with the Rural Electrification Act (RE Act) of 1936, 7 U.S.C. 901 et seq., as amended.

Need and Use of the Information: RUS will use the information in verifying acceptability of poles and cross-arms purchased by RUS borrowers. Each year, RUS borrowers are required to submit an Annual Summary of Purchases that provides a list of plants from which it obtained poles or cross-arms during the preceding calendar year and Treaters must provide notification that they will treat poles for the upcoming year. Test reports are needed so that the purchaser, the inspectors, and RUS will be able to spot-check the general accuracy of the test.

Description of Respondents: Business or other for-profit; not-for-profit institutions.

Number of Respondents: 700.

Frequency of Responses: Reporting: On occasion.

Total Burden Hours: 40,763.

Charlene Parker,
Departmental Information Collection Clearance Officer.

[FR Doc. 06-1818 Filed 2-27-06; 8:45 am]

BILLING CODE 3410-15-M